DEPARTMENT OF TRANSPORTATION

Federal Aviation Administration

14 CFR Part 39

[Docket No. FAA-2013-0216; Directorate Identifier 2012-NM-206-AD; Amendment 39-17521; AD 2013-15-05]

RIN 2120-AA64

Airworthiness Directives; Bombardier, Inc. Airplanes

AGENCY: Federal Aviation Administration (FAA), Department of Transportation (DOT).

ACTION: Final rule.

SUMMARY: We are adopting a new airworthiness directive (AD) for certain Bombardier, Inc. Model CL-600-2B19 (Regional Jet Series 100 & 440) airplanes. This AD was prompted by a determination that certain flap actuators require restoration by installing a redesigned flap actuator inboard pinion seal. This AD requires revising the maintenance program by incorporating new airworthiness limitation tasks. We are issuing this AD to prevent flap system failure, and consequent reduced control of the airplane.

DATES: This AD becomes effective September 10, 2013.

The Director of the Federal Register approved the incorporation by reference of a certain publication listed in this AD as of September 10, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Luke Walker, Aerospace Engineer, Airframe and Mechanical Systems Branch, ANE-171, FAA, New York Aircraft Certification Office (ACO), 1600 Stewart Avenue, Suite 410, Westbury, New York 11590; telephone (516) 228-7363; fax (516) 794-5531.

SUPPLEMENTARY INFORMATION:

Discussion

We issued a notice of proposed rulemaking (NPRM) to amend 14 CFR part 39 to include an AD that would apply to the specified products. The NPRM was published in the Federal Register on April 8, 2013 (78 FR 20844). The NPRM proposed to correct an unsafe condition for the specified products. Transport Canada Civil Aviation (TCCA), which is the aviation authority for Canada, has issued Canadian Airworthiness Directive CF-2012-26, dated October 30, 2012 (referred to after this as the Mandatory Continuing Airworthiness Information, or “the MCAI”), to correct an unsafe condition for the specified products. The MCAI states:

The CL-600-2B19 aeroplane flap actuator inboard pinion seal is prone to leak which can cause internal contamination of the actuator braking mechanism and subsequent actuator failure. This condition, if not corrected, can cause flap system failure. In certain weather and runway conditions, frequent flap system failures pose a safety concern.

To improve the internal actuator sealing, the flap actuator manufacturer has redesigned the inboard pinion seal.

Transport Canada Civil Aviation (TCCA) has been monitoring, through an actuator sampling program, the performance of the flap system since the introduction of actuators equipped with this new inboard pinion seal. Based on this sampling program and recent flap reliability data, TCCA is mandating a restoration task to install the redesigned flap actuator inboard pinion seal on all applicable actuators.

The required action is revising the maintenance program by incorporating two new airworthiness limitation tasks. The unsafe condition is flap system failure, and consequent reduced control of the airplane. You may obtain further information by examining the MCAI in the AD docket.

Comments

We gave the public the opportunity to participate in developing this AD. We have considered the comment received.

Statement of Support for the NPRM (78 FR 20844, April 8, 2013) and Request To Shorten Compliance Time

The Airline Pilots Association International stated it supports the NPRM (78 FR 20844, April 8, 2013), and requested that we shorten the compliance time to ensure that the identified safety issue is corrected within the airplane fleet as soon as possible.

We do not agree with the request to shorten the compliance time. After considering all the available information, we have determined that the compliance time, as proposed, represents an appropriate interval of time in which the required actions can be performed in a timely manner within the affected fleet, while still maintaining an adequate level of safety. In developing an appropriate compliance time, we considered the safety implications, parts availability, and normal maintenance schedules for timely accomplishment of installing the inboard pinion seal in the flap actuator. Further, we arrived at the proposed initial task compliance time with operator and manufacturer concurrence.

To reduce the compliance time of the NPRM (78 FR 20844, April 8, 2013) would necessitate (under the provisions of the Administrative Procedure Act) reissuing the notice, reopening the period for public comment, considering additional comments subsequently received, and eventually issuing a final rule. We have determined that further delay of this final rule is not appropriate. However, if additional data are presented that would justify a shorter compliance time, we might consider further rulemaking on this issue. We have not changed this AD in this regard.

Conclusion

We reviewed the available data, including the comment received, and determined that air safety and the public interest require adopting this AD as proposed—except for minor editorial changes. We have determined that these minor changes:

• Are consistent with the intent that was proposed in the NPRM (78 FR 20844, April 8, 2013) for correcting the unsafe condition; and

• Do not add any additional burden upon the public than was already proposed in the NPRM (78 FR 20844, April 8, 2013).

Costs of Compliance

We estimate that this AD affects 573 airplanes of U.S. registry.

We estimate the following costs to comply with this AD:

Estimated Costs
Action | Labor cost | Parts cost | Cost per product | Cost on U.S. operators
Revise the maintenance program | 1 work-hour × $85 per hour = $85 | $0 | $85 | $48,705

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the MCAI, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-15-05 Bombardier, Inc.: Amendment 39-17521. Docket No. FAA-2013-0216; Directorate Identifier 2012-NM-206-AD.

(a) Effective Date

This airworthiness directive (AD) becomes effective September 10, 2013.

(b) Affected ADs

None.

(c) Applicability

This AD applies to Bombardier, Inc. Model CL-600-2B19 (Regional Jet Series 100 & 440) airplanes, certificated in any category, equipped with Eaton flap actuators having any part number (P/N) specified in paragraphs (c)(1), (c)(2), and (c)(3) of this AD.

(1) P/N 601R93101-23/-25 (vendor P/N 852D100-23, -25).

(2) P/N 601R93103-23/-24 (vendor P/N 853D100-23, -24).

(3) P/N 601R93104-23/-24 (vendor P/N 854D100-23, -24).

(d) Subject

Air Transport Association (ATA) of America Code 27, Flight controls.

(e) Reason

This AD was prompted by a determination that certain flap actuators require restoration by installing a redesigned flap actuator inboard pinion seal. We are issuing this AD to prevent flap system failure, and consequent reduced control of the airplane.

(f) Compliance

You are responsible for having the actions required by this AD performed within the compliance times specified, unless the actions have already been done.

(g) Maintenance Program Revision

Within 30 days after the effective date of this AD, revise the maintenance program to incorporate Tasks C27-50-111-15 and C27-50-111-17 of Bombardier CL-600-2B19 Temporary Revision (TR) 2A-48, dated July 6, 2012, to Appendix A—Certification Maintenance Requirements, of Part 2, Airworthiness Requirements, of the Bombardier CL-600-2B19 Maintenance Requirements Manual (MRM), except as specified in paragraph (j) of this AD. The initial compliance times for the tasks are specified in paragraph (h) of this AD.

Note 1 to paragraph (g) of this AD: The maintenance program revision required by paragraph (g) of this AD may be done by inserting a copy of Bombardier CL-600-2B19 TR 2A-48, dated July 6, 2012, into Appendix A—Certification Maintenance Requirements, of Part 2, Airworthiness Requirements, of the Bombardier CL-600-2B19 MRM. When this TR has been included in general revisions of the MRM, the general revisions may be inserted in the MRM, provided the relevant information in the general revision is identical to that in Bombardier CL-600-2B19 TR 2A-48, dated July 6, 2012.

(h) Initial Task Compliance Times

For the inboard and outboard flap actuators identified in Bombardier CL-600-2B19 TR 2A-48, dated July 6, 2012, to Appendix A—Certification Maintenance Requirements, of Part 2, Airworthiness Requirements, of the Bombardier CL-600-2B19 MRM, the initial compliance times for the tasks specified in Bombardier CL-600-2B19 TR 2A-48, dated July 6, 2012, are the applicable times specified in paragraphs (h)(1) through (h)(4) of this AD.

(1) For flap actuators that have accumulated less than 6,000 flight cycles as of the effective date of this AD, before the accumulation of 10,000 flight cycles on the flap actuator.

(2) For flap actuators that have accumulated 6,000 or more flight cycles but less than 10,000 flight cycles as of the effective date of this AD, within 4,000 flight cycles after the effective date of this AD, but no later than 12,000 flight cycles on the flap actuator.

(3) For flap actuators that have accumulated 10,000 or more flight cycles but less than or equal to 12,000 flight cycles as of the effective date of this AD, within 2,000 flight cycles after the effective date of this AD, but no later than 13,000 flight cycles on the flap actuator.

(4) For flap actuators that have accumulated more than 12,000 flight cycles as of the effective date of this AD, within 1,000 flight cycles after the effective date of this AD.

(i) Repetitive Compliance Time

Where Bombardier CL-600-2B19 TR 2A-48, dated July 6, 2012, to Appendix A—Certification Maintenance Requirements, of Part 2, Airworthiness Requirements, of the Bombardier CL-600-2B19 MRM, specifies a task interval of 10,000 flight cycles or 144 months, the task interval is 10,000 flight cycles.

(j) No Alternative Actions and Intervals

After accomplishing the revision required by paragraph (g) of this AD, no alternative actions (e.g., inspections) or intervals may be used unless the actions or intervals are approved as an alternative method of compliance (AMOC) in accordance with the procedures specified in paragraph (k) of this AD.

(k) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to Program Manager, Continuing Operational Safety, FAA, New York ACO, 1600 Stewart Avenue, Suite 410, Westbury, NY 11590; telephone (516) 228-7300; fax (516) 794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

Refer to Mandatory Continuing Airworthiness Information Canadian Airworthiness Directive CF-2012-26, dated October 30, 2012, for related information, which can be found in the AD docket on the internet at http://www.regulations.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Bombardier CL-600-2B19 Temporary Revision 2A-48, dated July 6, 2012, to Appendix A—Certification Maintenance Requirements, of Part 2, Airworthiness Requirements, of the Bombardier CL-600-2B19 Maintenance Requirements Manual.

(ii) Reserved.

(3) For service information identified in this AD, Bombardier, Inc., 400 Côte-Vertu Road West, Dorval, Québec H4S 1Y9, Canada; telephone 514-855-5000; fax 514-855-7401; email thd.crj@aero.bombardier.com; Internet http://www.bombardier.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 12, 2013.
Jeffrey E. Duven,
Acting Manager, Transport Airplane Directorate, Aircraft Certification Service.

[FR Doc. 2013-18488 Filed 8-5-13; 8:45 am]

BILLING CODE 4910-13-P